DEPARTMENT OF JUSTICE

Antitrust Division

Notice Pursuant to The National Cooperative Research and Production Act of 1993—The Digital Subscriber Line Forum

Notice is hereby given that, on July 24, 2001, pursuant to Section 6(a) of the National Cooperative Research and Production Act of 1993, 15 U.S.C. 4301 et seq. (“the Act”), The Digital Subscriber Line Forum (“DSL”) filed written notifications simultaneously with the Attorney General and the Federal Trade Commission disclosing changes in its membership status. The notifications were filed for the purpose of extending the Act's provisions limiting the recovery of antitrust plaintiffs to actual damages under specified circumstances. Specifically, BABT, Santa Clara, CA; BATM, Rosh Ha'ayin, ISRAEL; Institute for Information Industry (III), Taipei, TAIWAN; OPASTCO, Washington, DC; Realtek Semiconductors, Hsinchu, TAIWAN; Aspex Technology, Mountain View, CA; DV Tel, Inc., Totowa, NJ; Partner Voxtream, Vojens, DENMARK; Telefonica Investigacion y Desarrollo, Madrid, SPAIN; Maxxio Technologies, Vienna, AUSTRIA; Motive Communications, Austin, TX; Exigen Group, Saint John, New Brunswick, CANADA; Communication Authority, Budapest, HUNGARY; Tioga Technologies, Tel Aviv, ISRAEL; and sentitO Networks, Rockville, MD, have been added as parties to this venture.

Also, CooperCom, Santa Clara, CA; iBeam Broadcasting, Sunnyvale, CA; Pivotech Systems, Piscataway, NJ; CS Telecom, Fontenay-Aux-Roses, FRANCE; Fuzion Wireless Communications, Boca Raton, FL; Accelerated Networks, Moorpark, CA; Tripath Technology, Santa Clara, CA; and Eurobell PLC, Crawley, West Sussex, UNITED KINGDOM, have been dropped as parties to this venture.

In addition, Netcom Systems, Chatsworth, CA, has been acquired by Spirent Communications, Nepean, Ontario, CANADA.

No other changes have been made in either the membership or planned activity of the group research project. Membership in this group research project remains open, and DSL intends to file additional written notifications disclosing all changes in membership.

On May 15, 1995, DSL filed its original notification pursuant to section 6(a) of the Act. The Department of Justice published a notice in the Federal Register pursuant to section 6(b) of the Act on July 25, 1995 (60 FR 38058).

The last notification was filed with the Department on April 17, 2001. A notice was published in the Federal Register pursuant to section 6(b) of the Act on June 1, 2001 (66 FR 29834).

Constance K. Robinson,
Director of Operations, Antitrust Division.

[FR Doc. 02-3718 Filed 2-14-02; 8:45 am]

BILLING CODE 4410-11-M